DEPARTMENT OF THE TREASURY

Office of Foreign Assets Control

Unblocking of Specially Designated Nationals and Blocked Persons Pursuant to Executive Order 12978

AGENCY: Office of Foreign Assets Control, Treasury.

ACTION: Notice.

SUMMARY: The Department of the Treasury's Office of Foreign Assets Control (“OFAC”) is publishing the names of 15 individuals and 29 entities whose property and interests in property have been unblocked pursuant to Executive Order 12978 of October 21, 1995, “Blocking Assets and Prohibiting Transactions With Significant Narcotics Traffickers”.

DATES: The unblocking and removal from the list of Specially Designated Nationals and Blocked Persons (“SDN List”) of the 15 individuals and 29 entities identified in this notice whose property and interests in property were blocked pursuant to Executive Order 12978 of October 21, 1995, is effective on January 10, 2012.

FOR FURTHER INFORMATION CONTACT: Assistant Director, Sanctions Compliance & Evaluation, Department of the Treasury, Office of Foreign Assets Control, Washington, DC 20220, Tel: (202) 622-2490.

SUPPLEMENTARY INFORMATION:

Electronic and Facsimile Availability

This document and additional information concerning OFAC are available from OFAC's Web site (http://www.treasury.gov/ofac) or via facsimile through a 24-hour fax-on demand service at (202) 622-0077.

Background

On October 21, 1995, the President, invoking the authority, inter alia, of the International Emergency Economic Powers Act (50 U.S.C. 1701-1706) (“IEEPA”), issued Executive Order 12978 (60 FR 54579, October 24, 1995) (the “Order”). In the Order, the President declared a national emergency to deal with the threat posed by significant foreign narcotics traffickers centered in Colombia and the harm that they cause in the United States and abroad.

Section 1 of the Order blocks, with certain exceptions, all property and interests in property that are in the United States, or that hereafter come within the United States or that are or hereafter come within the possession or control of United States persons, of: (1) The foreign persons listed in an Annex to the Order; (2) any foreign person determined by the Secretary of Treasury, in consultation with the Attorney General and the Secretary of State: (a) to play a significant role in international narcotics trafficking centered in Colombia; or (b) to materially assist in, or provide financial or technological support for or goods or services in support of, the narcotics trafficking activities of persons designated in or pursuant to the Order; and (3) persons determined by the Secretary of the Treasury, in consultation with the Attorney General and the Secretary of State, to be owned or controlled by, or to act for or on behalf of, persons designated pursuant to the Order.

On January 10, 2012, the Director of OFAC removed from the SDN List the 15 individuals and 29 entities listed below, whose property and interests in property were blocked pursuant to the Order:

Individuals

1. ABADIA BASTIDAS, Carmen Alicia (a.k.a. ABADIA DE RAMIREZ, Carmen Alicia), c/o DISDROGAS LTDA., Yumbo, Valle, Colombia; c/o RAMIREZ ABADIA Y CIA. S.C.S., Cali, Colombia; Calle 9 No. 39-65, Cali, Colombia; DOB 15 Jul 1934; POB Palmira, Valle, Colombia; Cedula No. 29021074 (Colombia) (INDIVIDUAL) [SDNT]

2. ESCALONA, Victor Julio, c/o C A V J CORPORATION LTDA., Bogota, Colombia; c/o VOL PHARMACYA LTDA., Cucuta, Colombia; c/o C.A. V.J. CORPORATION, Barquisimeto, Lara, Venezuela; Passport A0229910 (Venezuela) C.I.N. 7353289 (Venezuela) (INDIVIDUAL) [SDNT]

3. GAVIRIA PRICE, Juan Pablo, Carrera 4 No. 11-33 Ofc. 710, Cali, Colombia; c/o CRIADERO LA LUISA E.U., Cali, Colombia; DOB 09 Jul 1960; POB Cali, Valle, Colombia; Cedula No. 16639081 (Colombia); Passport 16639081 (Colombia) (individual) [SDNT]

4. GIL RODRIGUEZ, Ana Maria, c/o AMPARO R. DE GIL Y CIA. S.C.S.; c/o DROBLAM S.A.; DOB 24 Aug 1978; Passport 67020296 (Colombia) Cedula No. 67020296 (Colombia) (INDIVIDUAL) [SDNT]

5. GIL RODRIGUEZ, Angela Maria, c/o AQUILEA S.A., Cali, Colombia; c/o AMPARO R. DE GIL Y CIA. S.C.S., Cali, Colombia; c/o DROBLAM S.A., Cali, Colombia; DOB 21 Feb 1980; Passport 52721666 (Colombia) Cedula No. 52721666 (Colombia) (INDIVIDUAL) [SDNT]

6. GIRALDO ARBELAEZ, Fernando, c/o INMOBILIARIA U.M.V. S.A., Cali, Colombia; DOB 27 Nov 1952; Cedula No. 16249351 (Colombia) (INDIVIDUAL) [SDNT]

7. JAAR JACIR, Armando Jacobo (a.k.a. JAAR JASSIR, Armando Jacobo), c/o ALMACAES S.A., Bogota, Colombia; c/o ARMANDO JAAR Y CIA. S.C.S., Barranquilla, Colombia; c/o BLACKMORE INVESTMENTS A.V.V., Oranjestad, Aruba; c/o CORPORACION DE ALMACENES POR DEPARTAMENTOS S.A., Bogota, Colombia; c/o G.L.G. S.A., Bogota, Colombia; c/o ILOVIN S.A., Bogota, Colombia; c/o JACARIA FLORIDA, INC., Miami, FL, United States; c/o RAMAL S.A., Bogota, Colombia; c/o CIPE INVESTMENTS CORPORATION, Panama City, Panama; c/o RICARDO JAAR Y CIA. S.C.S., Barranquilla, Atlantico, Colombia; Calle 72 No. 65-56, Barranquilla, Colombia; Calle 81 No. 57-56, Barranquilla, Colombia; Calle 118 No. 19-38, Bogota, Colombia; DOB 20 Jan 1947; POB Barranquilla, Colombia; Cedula No. 7432263 (Colombia) Passport P015313 (Colombia) (INDIVIDUAL) [SDNT]

8. JAAR JASSIR, Ricardo (a.k.a. JAAR JACIR, Ricardo), c/o ALMACAES S.A., Bogota, Colombia; c/o CONFECCIONES LORD S.A., Barranquilla, Atlantico, Colombia; c/o CORPORACION DE ALMACENES POR DEPARTAMENTOS S.A., Bogota, Colombia; c/o GIMBER INVESTING CORPORATION, Virgin Islands, British; c/o G.L.G. S.A., Bogota, Colombia; c/o ILOVIN S.A., Bogota, Colombia; c/o JACARIA FLORIDA, INC., Miami, FL, United States; c/o RAMAL S.A., Bogota, Colombia; DOB 29 Sep 1940; POB Barranquilla, Colombia; citizen Colombia; Cedula No. 3714973 (Colombia) Passport AF665413 (Colombia) (INDIVIDUAL) [SDNT]

9. MARIN GOMEZ, Mallerly Alejandra, c/o LEMOFAR LTDA., Bogota, Colombia; DOB 2 Jul 1982; Cedula No. 52719053 (Colombia); Passport 52719053 (Colombia) (individual) [SDNT]

10. PINZON POVEDA, Marco Antonio, c/o DEPOSITO POPULAR DE DROGAS S.A., Cali, Colombia; c/o DISTRIBUIDORA DE DROGAS CONDOR LTDA., Bogota, Colombia; Carrera 65 No. 13B-125 apt. 307, Cali, Colombia; DOB 21 Dec 1948; Cedula No. 17801803 (Colombia) (INDIVIDUAL) [SDNT]

11. RAMIREZ PONCE, Omar, c/o DISDROGAS LTDA., Yumbo, Valle, Colombia; c/o RAMIREZ ABADIA Y CIA. S.C.S., Cali, Colombia; Carrera 38 No. 13-138, Cali, Colombia; DOB 01 Jan 1940; POB Cali, Colombia; Cedula No. 6064636 (Colombia) Passport 6064636 (Colombia) (INDIVIDUAL) [SDNT]

12. RENTERIA CAICEDO, Beatriz Eugenia, c/o INVERSIONES AGROINDUSTRIALES DEL OCCIDENTE LTDA., Bogota, Colombia; c/o COMPANIA AGROPECUARIA DEL SUR LTDA., Bogota, Colombia; c/o CANADUZ S.A., Cali, Colombia; Diagonal 130 No. 7-20, Apt. 806, Bogota, Colombia; Avenida 11 No. 7N-166, Cali, Colombia; 85 Brainerd Road, Townhouse 9, Allston, MA 02134, United States; 18801 Collins Avenue, Apt. 322-3, Sunny Isles Beach, FL 33160, United States; Calle 90 No. 10-05, Bogota, Colombia; DOB 30 Nov 1977; citizen Colombia; nationality Colombia; SSN 594-33-3351 (United States) Passport AG034865 (Colombia) Cedula No. 52424737 (Colombia) Passport AE309750 (Colombia) (INDIVIDUAL) [SDNT]

13. SAIEH JAMIS, Carlos Ernesto, c/o ALMACAES S.A., Bogota, Colombia; c/o ALM INVESTMENT FLORIDA, INC., Miami, FL, United States; c/o BLACKMORE INVESTMENTS A.V.V., Oranjestad, Aruba; c/o CARLOS SAIEH Y CIA. S.C.S., Barranquilla, Atlantico, Colombia; c/o CONFECCIONES LORD S.A., Barranquilla, Atlantico, Colombia; c/o CONSTRUCTORA ALTAVISTA INTERNACIONAL S.A., Barranquilla, Colombia; c/o CORPORACION DE ALMACENES POR DEPARTAMENTOS S.A., Bogota, Colombia; c/o ELIZABETH OVERSEAS INC., Panama City, Panama; c/o FINANZAS DEL NORTE LUIS SAIEH Y CIA. S.C.A., Barranquilla, Colombia; c/o G.L.G. S.A., Bogota, Colombia; c/o GRANADA ASSOCIATES, INC., Miami, FL, United States; c/o ILOVIN S.A., Bogota, Colombia; c/o INVERSIONES DEL PRADO ABDALA SAIEH Y CIA. S.C.A., Barranquilla, Colombia; c/o KAREN OVERSEAS, INC., Panama City, Panama; c/o KAREN OVERSEAS FLORIDA, INC., Miami, FL, United States; c/o KATTUS II CORPORATION, Panama City, Panama; c/o MARC LLC, Miami, FL, United States; c/o MOISES SAIEH Y CIA. S.C.A., Barranquilla, Atlantico, Colombia; c/o RAMAL S.A., Bogota, Colombia; c/o RIXFORD INVESTMENT CORPORATION, Panama City, Panama; c/o URBANIZADORA ALTAVISTA INTERNACIONAL S.A., Barranquilla, Colombia; c/o VILLAROSA INVESTMENTS FLORIDA, INC., Miami, FL, United States; c/o BRUNELLO LTD., Grand Cayman, Cayman Islands; c/o C.W. SALMAN PARTNERS, Miami, FL, United States; c/o SALMAN CORAL WAY PARTNERS, Miami, FL, United States; 780 NW Le Jeune Rd, Suite 516, Miami, FL 33126, United States; 780 NW 42nd Avenue, Suite 516, Miami, FL 33126, United States; Carrera 56 No. 79-102 Piso-10, Barranquilla, Colombia; Nine Island Avenue, Unit 1411, Miami Beach, FL, United States; 9100 South Dadeland Boulevard, Suite 912, Miami, FL 33156, United States; c/o MLA INVESTMENTS, INC., Virgin Islands, British; DOB 24 Feb 1964; POB Barranquilla, Colombia; citizen Colombia; nationality Colombia; Cedula No. 8739066 (Colombia) Passport AH006864 (Colombia) (INDIVIDUAL) [SDNT]

14. SAIEH MUVDI, Moises Abdal, c/o ALMACAES S.A., Bogota, Colombia; c/o ALM INVESTMENT FLORIDA, INC., Miami, FL, United States; c/o CARLOS SAIEH Y CIA. S.C.S., Barranquilla, Atlantico, Colombia; c/o CONFECCIONES LORD S.A., Barranquilla, Atlantico, Colombia; c/o CONSTRUCTORA ALTAVISTA INTERNACIONAL S.A., Barranquilla, Colombia; c/o CORPORACION DE ALMACENES POR DEPARTAMENTOS S.A., Bogota, Colombia; c/o ELIZABETH OVERSEAS INC., Panama City, Panama; c/o G.L.G. S.A., Bogota, Colombia; c/o GRANADA ASSOCIATES, INC., Miami, FL, United States; c/o ILOVIN S.A., Bogota, Colombia; c/o INVERSIONES DEL PRADO ABDALA SAIEH Y CIA. S.C.A., Barranquilla, Colombia; c/o KAREN OVERSEAS, INC., Panama City, Panama; c/o KAREN OVERSEAS FLORIDA, INC., Miami, FL, United States; c/o KATTUS II CORPORATION, Panama City, Panama; c/o MOISES SAIEH Y CIA. S.C.A., Barranquilla, Atlantico, Colombia; c/o RAMAL S.A., Bogota, Colombia; c/o RIXFORD INVESTMENT CORPORATION, Panama City, Panama; c/o SUNSET & 97TH HOLDINGS, LLC., Miami, FL, United States; c/o URBANIZADORA ALTAVISTA INTERNACIONAL S.A., Barranquilla, Colombia; c/o VILLAROSA INVESTMENTS FLORIDA, INC., Miami, FL, United States; c/o JAMCE INVESTMENTS LTD., Georgetown, Grand Cayman, Cayman Islands; c/o KATTUS CORPORATION, Bridgetown, St. Michael, Barbados; c/o VILLAROSA INVESTMENTS CORPORATION, Panama City, Panama; c/o C.W. SALMAN PARTNERS, Miami, FL, United States; c/o SALMAN CORAL WAY PARTNERS, Miami, FL, United States; Carrera 56 No. 79-40, Apt 7, Barranquilla, Colombia; 19667 NE 36 Court A 12-G, North Miami Beach, FL 33180, United States; 780 NW Le Jeune Rd, Suite 516, Miami, FL 33126, United States; 780 NW 42nd Avenue, Suite 516, Miami, FL 33126, United States; 1405 SW 107th Ave, Ste 301B, Miami, FL, United States; 19667 Turnberry Way, Unit 12G, Miami, FL 33180, United States; 20301 W Country Club Drive, Apt 824, Aventura, FL 33180, United States; 9100 South Dadeland Boulevard, Suite 912, Miami, FL 33156, United States; c/o MLA INVESTMENTS, INC., Virgin Islands, British; DOB 06 Jun 1945; POB Pamplona, Norte de Santander; citizen Colombia; Cedula No. 7427466 (Colombia) (INDIVIDUAL) [SDNT]

15. SIMAN DE JAAR, Carmen Elena (a.k.a. SIMAN DADA DE JAAR, Carmen Elena; a.k.a. JAAR, Carmen E.; a.k.a. S DE JAAR, Carmen Elena), c/o ARMANDO JAAR Y CIA. S.C.S., Barranquilla, Colombia; c/o CIPE INVESTMENTS CORPORATION, Panama City, Panama; 325 Poinciana Island Drive, Sunny Island Beach, FL 33160, United States; DOB 01 Nov 1953; Cedula No. 1629942 (El Salvador) Passport B296684 (El Salvador) (INDIVIDUAL) [SDNT]

Entities

1. ALM INVESTMENT FLORIDA, INC., 780 NW 42nd Avenue, Suite 516, Miami, FL 33126, United States; 780 NW Le Jeune Rd, Suite 516, Miami, FL 33126, United States; 9100 South Dadeland Boulevard, Suite 912, Miami, FL 33156, United States; US FEIN 65-0336852 (United States) [SDNT]

2. ARMANDO JAAR Y CIA. S.C.S., Carrera 74 No. 76-150, Barranquilla, Colombia; NIT #890114337-6 (Colombia) [SDNT]

3. BRUNELLO LTD., Grand Cayman, Cayman Islands; Nine Island Avenue, Unit 1411, Miami Beach, FL, United States; C.R. No. 68557 (Cayman Islands) [SDNT]

4. CARLOS SAIEH Y CIA. S.C.S., Carrera 74 No. 76—150, Barranquilla, Atlantico, Colombia; NIT #800180437-8 (Colombia) [SDNT]

5. CIPE INVESTMENTS CORPORATION, Panama City, Panama; RUC #2209651197910 (Panama) C.R. No. 197910/22096/0051 (Panama) [SDNT]

6. CONFECCIONES LORD S.A., Carrera 74 No. 76-150, Barranquilla, Atlantico, Colombia; NIT #890101890-1 (Colombia) [SDNT]

7. CONSTRUCTORA ALTAVISTA INTERNACIONAL S.A. (a.k.a. CONASA S.A.), Calle 77 B No. 57-141, Ofc. 917, Barranquilla, Colombia; NIT #802019866-4 (Colombia) [SDNT]

8. C.W. SALMAN PARTNERS, 1401 Brickell Avenue, Miami, FL 33131, United States; US FEIN 65-0111089 (United States) [SDNT]

9. ELIZABETH OVERSEAS INC., Panama City, Panama; RUC #2172202194798 (Panama) C.R. No. 194798/21722 (Panama) [SDNT]

10. FINANZAS DEL NORTE LUIS SAIEH Y CIA. S.C.A. (f.k.a. FINANZAS DEL NORTE LTDA.), Calle 77 B No. 57-141, Ofc. 917, Barranquilla, Colombia; NIT #890108715-2 (Colombia) [SDNT]

11. GIMBER INVESTING CORPORATION, Virgin Islands, British; [SDNT]

12. GRANADA ASSOCIATES, INC., 780 NW Le Jeune Road, Suite 516, Miami, FL 33126, United States; 780 NW 42nd Avenue, Suite 516, Miami, FL 33126, United States; 9100 South Dadeland Boulevard, Suite 912, Miami, FL 33156, United States; citizen Colombia; US FEIN 65-0336843 (United States) [SDNT]

13. INVERSIONES DEL PRADO ABDALA SAIEH Y CIA. S.C.A., Calle 77 B No. 57-141, Ofc. 901, Barranquilla, Colombia; NIT #890108452-0 (Colombia) [SDNT]

14. JACARIA FLORIDA, INC., 1149 SW 27th Avenue Suite 203, Miami, FL 33135, United States; 9400 South Dadeland Boulevard Suite 601, Miami, FL 33156, United States; US FEIN 592804133 (United States) [SDNT]

15. JAMCE INVESTMENTS LTD., Georgetown, Grand Cayman, Cayman Islands; C.R. No. 93989 (Cayman Islands) [SDNT]

16. KAREN OVERSEAS FLORIDA, INC., 780 NW Le Jeune Road, Suite 516, Miami, FL 33126, United States; 780 NW 42nd Avenue, Suite 516, Miami, FL 33126, United States; 9100 South Dadeland Boulevard, Suite 912, Miami, FL 33156, United States; US FEIN 592827636 (United States) [SDNT]

17. KAREN OVERSEAS, INC., Panama City, Panama; RUC #2172211194799 (Panama) C.R. No. 194799/0011 (Panama) [SDNT]

18. KATTUS CORPORATION, Bridgetown, St. Michael, Barbados; Registration ID 67199901 (Barbados) [SDNT]

19. KATTUS II CORPORATION, Panama City, Panama; RUC #1724681390286 (Panama) C.R. No. 390286/172468 (Panama) [SDNT]

20. MARC LLC, 780 Le Jeune Road, Suite 516, Miami, FL 33126, United States; 780 NW 42nd Avenue, Suite 516, Miami, FL 33126, United States; 9100 South Dadeland Boulevard, Suite 912, Miami, FL 33156, United States; [SDNT]

21. MLA INVESTMENTS INC., Virgin Islands, British; C.R. No. IBC 525487 (Virgin Islands, British) [SDNT]

22. MOISES SAIEH Y CIA. S.C.A., Carrera 74 No. 76-150, Barranquilla, Atlantico, Colombia; NIT #890114338-3 (Colombia) [SDNT]

23. RICARDO JAAR Y CIA. S.C.S., Carrera 74 No. 76-150, Barranquilla, Atlantico, Colombia; NIT #890114336-9 (Colombia) [SDNT]

24. RIXFORD INVESTMENT CORPORATION, Panama City, Panama; RUC #1963801394709 (Panama) [SDNT]

25. SALMAN CORAL WAY PARTNERS, 2731 Coral Way, Miami, FL 33145, United States; US FEIN 59-2276524 (United States) [SDNT]

26. SUNSET & 97TH HOLDINGS, LLC. (a.k.a. SUNSET AND 97TH HOLDINGS, LLC.), 19667 Turnberry Way, Unit 12 G, Miami, FL 33180, United States; 9100 South Dadeland Boulevard, Suite 912, Miami, FL 33156, United States; 780 NW Le Jeune Road, Suite 516, Miami, FL 33126, United States; 780 NW 42nd Avenue, Suite 516, Miami, FL 33126, United States; P.O. Box 51314, Calle 72 No. 6556, Barranquilla, Colombia; US FEIN 260064717 (United States) [SDNT]

27. URBANIZADORA ALTAVISTA INTERNACIONAL S.A. (a.k.a. URBAVISTA; f.k.a. TELNET S.A.), Calle 77 B No. 57-141, Ofc. 917, Barranquilla, Colombia; NIT #802014697-3 (Colombia) [SDNT]

28. VILLAROSA INVESTMENTS CORPORATION, Panama City, Panama; C.R. No. 312563/48824/0058 (Panama) [SDNT]

29. VILLAROSA INVESTMENTS FLORIDA, INC., 780 NW Le Jeune Road, Suite 516, Miami, FL 33126, United States; 780 NW 42nd Avenue, Suite 516, Miami, FL 33126, United States; 9100 South Dadeland Boulevard, Suite 912, Miami, FL 33156, United States; US FEIN 650439600 (United States) [SDNT]

Dated: January 10, 2012.
Adam J. Szubin,
Director, Office of Foreign Assets Control.

[FR Doc. 2012-722 Filed 1-17-12; 8:45 am]

BILLING CODE 4810-AL-P